ENVIRONMENTAL PROTECTION AGENCY

[EPA-HQ-OAR-2021-0103: FRL-9856-01-OMS]

Information Collection Request Submitted to OMB for Review and Approval; Comment Request; NESHAP for Asphalt Processing and Asphalt Roofing Manufacturing (Renewal)

AGENCY: Environmental Protection Agency (EPA).

ACTION: Notice.

SUMMARY: The Environmental Protection Agency (EPA) has submitted an information collection request (ICR), NESHAP for Asphalt Processing and Asphalt Roofing Manufacturing (EPA ICR Number 2029.09, OMB Control Number 2060-0520), to the Office of Management and Budget (OMB) for review and approval in accordance with the Paperwork Reduction Act. This is a proposed extension of the ICR, which is currently approved through May 31, 2022. Public comments were previously requested via the Federal Register on April 13, 2021 during a 60-day comment period. This notice allows for an additional 30 days for public comments. A fuller description of the ICR is given below, including its estimated burden and cost to the public. An agency may nether conduct nor sponsor, and a person is not required to respond to, a collection of information unless it displays a currently valid OMB control number.

DATES: Additional comments may be submitted on or before June 13, 2022.

ADDRESSES: Submit your comments, referencing Docket ID Number EPA-HQ-OAR-2021-0103,, online using https://www.regulations.gov/ (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Owners and operators of existing and new facilities that are engaged in asphalt processing or asphalt roofing manufacturing are required to comply with reporting and record keeping requirements for the General Provisions (40 CFR part 63, subpart A), as well as for the applicable specific standards in 40 CFR part 63 subpart LLLLL. This includes submitting initial notifications, performance tests and periodic reports and results, and any period during which the add-on control system is inoperative. These reports are used by EPA to determine compliance with these standards.

Form Numbers: 5900-567.

Respondents/affected entities: Owners or operators of asphalt processing or asphalt roofing manufacturing facilities.

Respondent's obligation to respond: Mandatory (40 CFR part 63, subpart LLLLL).

Estimated number of respondents: 8 (total).

Frequency of response: Initially, semiannually, periodically.

Total estimated burden: 4,000 hours (per year). Burden is defined at 5 CFR 1320.3(b).

Total estimated cost: $558,000 (per year), which includes $84,900 in annualized capital/startup and/or operation & maintenance costs.

Changes in the Estimates: There is an increase in burden from the most-recently approved ICR as currently identified in the OMB Inventory of Approved Burdens. This increase is not due to any program changes. This ICR merges the `burdens' from EPA ICR Number 2029.08 and EPA ICR No. 2598.02 (OMB No. 2060-0724), and from the ICR that the RTR amendments finalized on March 12, 2020 at 85 FR 14526. The prior RTR amendments revised the rule to add periodic testing requirements which increased burden, and resulted in an increase in periodic testing costs and an increase in operation and maintenance (O&M) costs for control devices. The regulations are not anticipated to change over the next three years. The growth rate for this industry is very low or non-existent. There are no changes in the capital/startup costs as no new sources have been constructed.

Courtney Kerwin,
Director, Regulatory Support Division.

[FR Doc. 2022-10352 Filed 5-12-22; 8:45 am]

BILLING CODE 6560-50-P